DEPARTMENT OF COMMERCE

National Oceanic and Atmospheric Administration

[I.D. 122903F]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Demersal Species Committee (meeting as a Council committee of the whole together with the Atlantic States Marine Fisheries Commission's Summer Flounder, Scup, and Black Sea Bass Board), Ecosystems Committee, and Squid, Mackerel, Butterfish Committee will hold a public meeting.

DATES: The meeting will be held on Tuesday, January 20, through Thursday, January 22, 2004. See SUPPLEMENTARY INFORMATION for specific dates and times.

ADDRESSES: This meeting will be held at the Old Town Holiday Inn Select, 480 King Street, Old Town Alexandria, VA, telephone: 703-549-6080.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, January 20, the Demersal Species Committee meeting as a Council Committee of the Whole with the Atlantic States Marine Fisheries Commission's Summer Flounder, Scup, and Black Sea Bass Board will meet from 3 p.m. to 5 p.m. On Wednesday, January 21, The Ecosystems Committee will meet from 8 a.m. to 10 a.m. The Squid, Mackerel, Butterfish Committee will meet from 10 a.m. to noon. Council will meet from 1 p.m. to 5 p.m. On Thursday, January 22, Council will meet from 8 a.m. until approximately 3 p.m.

Agenda items for the Council's committees and the Council itself are: Address Framework 5 multi-year specification action for summer flounder, scup, and black sea bass; Address how to deal with rebuilt stocks, and review essential fish habitat (EFH) issues and develop comments on NMFS EFH final rule, address use of habitat areas of particular concerns and marine protected areas in Mid-Atlantic exclusive economic zone and consider renaming the Ecosystem Committee; Finalize issues to be addressed for Amendment 9 public hearing draft and address issues to be included in Amendment 10 to the Atlantic Mackerel, Squid, and Butterfish fishery management plan; Receive briefing from NMFS officials on its fishery dependent data collection systems (recreational and commercial) and receive comment on the proposed regulations for electronic dealer reporting; Receive update on NMFS bycatch activities; Receive report on cooperative research activities involving National Fisheries Institute-SMC, Rutgers University, Northeast Fisheries Science Center; Receive report on most recent Stock Assessment Workshop/Stock Assessment Research Committee process; Receive and hear committee and organizational reports, and act on any new and/or continuing business, e.g., reinitiation of tilefish limited entry system.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

This meeting is physically accessible to people with disabilities. Requests for sign language interpretation or other auxiliary aids should be directed to Joanna Davis at the Council (see ADDRESSES) at least 5 days prior to the meeting date.

Dated: December 30, 2003.
Richard W. Surdi,
Acting Director, Office of Sustainable Fisheries, National Marine Fisheries Service.

[FR Doc. E4-196 Filed 01-02-04; 8:45 am]

BILLING CODE 3510-22-S